DEPARTMENT OF COMMERCE

National Oceanic and Atmospheric Administration

Notice of Public Meeting

ACTION: Notice of public meeting.

SUMMARY: The Advisory Committee on Commercial Remote Sensing (ACCRES) will meet September 30, 2002.

DATES: The meeting is scheduled as follows: September 30, 2002, 1 p.m.-5 p.m.

ADDRESSES: The meetings will be held at the Ronald Reagan Building in the Hemisphere A Room. While open to the public, seating capacity may be limited. The Ronald Reagan Building is located at 1300 Pennsylvania Avenue, NW., in Washington, DC. The Ronald Reagan Building provides underground parking and is Metro accessible at the Federal Triangle stop on the Blue/Orange Line and at Metro Center on the Red/Blue/Orange Lines.

SUPPLEMENTARY INFORMATION: As required by section 10(a)(2) of the Federal Advisory Committee Act, 5 U.S.C. App. (1982), notice is hereby given of the meeting of ACCRES. ACCRES was established by the Secretary of Commerce (Secretary) on May 21, 2002, to advise the Secretary through the Under Secretary of Commerce for Oceans and Atmosphere on long- and short-range strategies for the licensing of commercial remote sensing satellite systems.

Matters To Be Considered

This will be the inaugural meeting of ACCRES. While not reviewing any specific licensing actions, the committee will receive briefings on the licensing and enforcement program and procedures of the National Oceanic and Atmospheric Administration (NOAA) and the interagency process for issuing licenses. The Committee will also consider key issues such as industry internationalization, industry risks and investment disincentives, foreign availability and competition, and determine its advisory role and process.

Special Accommodations

These meetings are physically accessible to people with disabilities. Requests for special accommodations may be directed to ACCRES, NESDIS International and Interagency Affairs Office, 1335 East-West Highway, Room 7311, Silver Spring, Maryland 20910.

Additional Information and Public Comments

Any member of the public wishing further information concerning the meeting or who wishes to submit oral or written comments should contact Timothy Stryker, Designated Federal Officer for ACCRES, NOAA/NESDIS International and Interagency Affairs Office, 1335 East-West Highway, Room 7311, Silver Spring, Maryland 20910. Copies of the draft meeting agenda can be obtained from Tahara Moreno at (301) 713-2024 x.202, fax (301) 713-2032, or e-mail Tahara.Moreno@noaa.gov.

The ACCRES expects that public statements presented at its meetings will not be repetitive of previously-submitted oral or written statements. In general, each individual or group making an oral presentation will be limited to a total time of five minutes. Written comments (please provide at least 13 copies) received in the NOAA/NESDIS International and Interagency Affairs Office on or before September 25 will be provided to Committee members in advance of the meeting. Comments received too close to the meeting date will normally be provided to the Committee at the meeting.

FOR FURTHER INFORMATION CONTACT: Timothy Stryker, NOAA/NESDIS International and Interagency Affairs, 1335 East West Highway, Room 7311, Silver Spring, Maryland 20910; telephone (301) 713-2024 x.205, fax (301) 713-2032, e-mail Timothy.Stryker@noaa.gov.

Gregory W. Withee,
Assistant Administrator for Satellite and Information Services.

[FR Doc. 02-23407 Filed 9-12-02; 8:45 am]

BILLING CODE 3510-HR-P